DEPARTMENT OF JUSTICE

Notice of Lodging of Proposed Settlement Agreement Under the Comprehensive Environmental Response, Compensation and Liability Act (CERCLA)

Notice is hereby given that on March 13, 2009, a proposed Consent Decree and Settlement Agreement regarding certain sites in Montana was filed with the United States Bankruptcy Court for the Southern District of Texas in In re Asarco LLC, No. 05-21207 (Bankr. S.D. Tex.). The proposed Agreement entered into by the United States on behalf of the Environmental Protection Agency (EPA), the United States Department of the Interior (DOI), the state of Montana, and Asarco LLC provides, inter alia, for the establishment of a custodial trust, the transfer of certain properties to that trust, and funding of the trust with allowed administrative expense claims for administrative and site cleanup and restoration costs. The proposed Agreement provides the custodial trust with an allowed administrative expense claim of $8.9 million to cover its administrative costs and allowed administrative expense claims in the amount indicated for each of the following Sites to fund cleanup work: the Black Pine site, consisting of property owned by Asarco at or near the Black Pine Mine complex near Phillipsburg, Montana—$17.5 million, the Mike Horse site, consisting of property owned by Asarco at portions of the Upper Blackfoot Mining Complex near Lincoln, Montana—$10 million, the Iron Mountain site, consisting of property owned by Asarco at portions of the Iron Mountain/Flat Creek Mine complex near Superior, Montana—$1.9 million, and the East Helena site, consisting of all property owned by Debtors at or near East Helena, Montana—$100 million. The proposed settlement also includes an allowed general unsecured claim of $5 million to Montana for compensatory natural resource damages.

The Department of Justice will receive comments relating to the proposed Agreement for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to In re Asarco LLC, DJ Ref. No. 90-11-3-08633. Commenters may request an opportunity for a public meeting in the affected area, in accordance with Section 7003(d) of RCRA, 42 U.S.C. 6973(d).

The proposed Agreement may be examined at the Office of the United States Attorney for the Southern District of Texas, 800 North Shoreline Blvd, #500, Corpus Christi, TX 78476-2001, or at the office of the Environmental Protection Agency Region 8, 1595 Wynkoop, Denver, Colorado 80202. During the public comment period, the proposed Agreement may also be examined on the following Department of Justice Web site, http://www.usdoj.gov/enrd/Consent_Decrees.html. A copy of the proposed Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $15.50 (without attachments) or $39.00 (with attachments) (25 cents per page reproduction cost) payable to the U.S. Treasury.

Maureen Katz,
Assistant Section Chief, Environmental Enforcement Section.

[FR Doc. E9-6443 Filed 3-23-09; 8:45 am]

BILLING CODE 4410-15-P